DEPARTMENT OF JUSTICE

Office of Justice Programs

[OMB Number 1121-0064]

Agency Information Collection Activities: Proposed Collection; Comment Request

ACTION: 60-day notice of information collection under review: Extension of a currently approved collection: Annual Parole Survey and Annual Probation Survey

The Department of Justice (DOJ), Office of Justice Programs (OJP), Bureau of Justice Statistics (BJS) will be submitting the following information collection request to the Office of Management and Budget (OMB) for review and approval in accordance with the Paperwork Reduction Act of 1995. The proposed information collection is published to obtain comments from the public and affected agencies. Comments are encouraged and will be accepted for “sixty days” until May 27, 2011. This process is in accordance with 5 CFR 1320.10.

If you have comments especially on the estimated public burden or associated response time, suggestions, or need a copy of the proposed information collection instrument with instructions or additional information, please contact Tom Bonczar, Statistician, (202) 616-3615, Bureau of Justice Statistics, 810 Seventh St., NW., Washington, DC 20531.

Written comments concerning this information collection should be sent to the Office of Information and Regulatory Affairs, Office of Management and Budget, Attn: DOJ Desk Officer. The best way to ensure your comments are received is to e-mail them to oira_submission@omb.eop.gov or fax them to 202-395-7285. All comments should reference the 8 digit OMB number for the collection or the title of the collection. If you have questions concerning the collection, please call Tom Bonczar, Statistician at 202 616-3615 or the DOJ Desk Officer at 202-395-3176.

Written comments and suggestions from the public and affected agencies concerning the proposed collection of information should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g. permitting electronic submission of responses.

Overview of This Information Collection

(1) Type of information collection: Extension of currently approved collection.

(2) The title of the Form/Collection: Annual Parole Survey, Annual Probation Survey, and Annual Probation Survey (Short Form).

(3) The agency form number, if any, and the applicable component of the Department sponsoring the collection: Forms: CJ-7 Annual Parole Survey; CJ-8 Annual Probation Survey; and CJ-8A Annual Probation Survey (Short Form). Corrections Statistics Program, Bureau of Justice Statistics, Office of Justice Programs, United States Department of Justice.

(4) Affected public who will be asked to respond, as well as a brief abstract: Primary: state departments of corrections or state probation and parole authorities. Others: The Federal Bureau of Prisons, city and county courts and probation offices for which a central reporting authority does not exist.

For the CJ-7 form, the affected public consists of 55 respondents including 50 central reporters (two state respondents in California and Pennsylvania, and one each from the remaining states; the District of Columbia; the Federal Bureau of Prisons; and one local authority) responsible for keeping records on parolees. For the CJ-8 form, the affected public includes 306 reporters including 50 state respondents, the District of Columbia, and the Federal Bureau of Prisons; and 254 from local authorities) responsible for keeping records on probationers. For the CJ-8A form, the affected public includes 160 reporters (from local authorities) responsible for keeping records on probationers.

The Annual Parole Survey and Annual Probation surveys have been used since 1977 to collect annual yearend counts and yearly movements of community corrections populations; characteristics of the community supervision population, such as gender, racial composition, ethnicity, conviction status, offense, supervision status; outcomes including the number of revocations and the re-incarceration rate of parolees (i.e., recidivism measures); and numbers of probationers and parolees who had their location tracked through a Global Positioning System (GPS). The Bureau of Justice Statistics uses this information in published reports and for the U.S. Congress, Executive Office of the President, practitioners, researchers, students, the media, and others interested in criminal justice statistics.

(5) An estimate of the total number of respondents and the amount of time estimated for an average respondent to respond: 521 respondents each taking an average of 1.19 hours to respond.

(6) An estimate of the total public burden (in hours) associated with the collection: 622 annual burden hours.

If additional information is required, contact: Mrs. Lynn Murray, Department Clearance Officer, United States Department of Justice, Justice Management Division, Policy and Planning Staff, Two Constitution Square, 145 N. Street, NE., Suite 2E-808, Washington, DC 20530.

Dated: March 22, 2011.
Lynn Murray,
Department Clearance Officer, PRA, United States Department of Justice.

[FR Doc. 2011-7161 Filed 3-25-11; 8:45 am]

BILLING CODE 4410-18-P